DEPARTMENT OF TRANSPORTATION

Federal Motor Carrier Safety Administration

[Docket No. FMCSA-2024-0165]

Agency Information Collection Activities; Revision of an Approved Information Collection Request: Financial Responsibility Motor Carriers, Freight Forwarders, and Brokers

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. FMCSA requests approval to renew an ICR titled, “Financial Responsibility Motor Carriers, Freight Forwarders, and Brokers.” The purpose of this ICR is to provide registered motor carriers, property brokers, and freight forwarders a means of meeting financial responsibility filing requirements. This ICR sets forth the financial responsibility documentation requirements for motor carriers, freight forwarders, and brokers as a result of Agency jurisdictional statutes. On January 6, 2025, FMCSA published a 60-day notice in the Federal Register announcing its intention to submit this ICR to OMB for renewal. FMCSA received two comments in response to the published notice.

DATES: Comments on this notice must be received on or before May 30, 2025.

ADDRESSES: Written comments and recommendations for the proposed information collection should be submitted within 30 days of publication of this notice to www.reginfo.gov/public/do/PRAMain. Find this information collection by selecting “Currently under 30-day Review—Open for Public Comments” or by using the search function.

FOR FURTHER INFORMATION CONTACT: Ana Alvarez, Financial Analyst, Office of Registration, Financial Responsibility Filings Division, DOT, FMCSA, 1200 New Jersey Avenue SE, Washington, DC 20590-0001; 202-366-0401; ana.alvarez@dot.gov.

SUPPLEMENTARY INFORMATION:

Title: Financial Responsibility Motor Carriers, Freight Forwarders, and Brokers.

OMB Control Number: 2126-0017.

Type of Request: Revision of currently approved ICR.

Respondents: For-hire motor carriers, brokers, and freight forwarders.

Estimated Number of Respondents: 200,147.

Estimated Time per Response: The estimated average burden per response for Form BMC-40 is 40 hours. The estimated average burden per response for forms BMC-34, 35, 82, 83, 91, and 91X is 10 minutes per form. In addition, form BMC-32 takes 10 minutes. Forms BMC 36, 84, and 85 are affected by the implementation of the Broker Freight Forward Financial Responsibility rule. For the 6 months prior to the rule implementation the estimated average burden per response for these three forms is 10 minutes per form. For the remaining 2.5 year after the rule is implemented the estimated average burden per response for the revised forms is 12 minutes per form.

Expiration Date: June 30, 2025.

Frequency of Response: Certificates of insurance, surety bonds, and trust fund agreements are required when the transportation entity first registers with FMCSA and then when such coverages are changed or replaced by these entities. Notices of cancellation are required only when such certificates of insurance, surety bonds, and trust fund agreements are cancelled. The BMC-40 is filed only when a carrier seeks approval from FMCSA to self-insure its bodily injury and property damage (BI and PD) and/or cargo liability coverage.

Estimated Total Annual Burden: 49,722 hours. The annual burden was revised for Forms BMC-84, BMC-85, and BMC-36. The initial collection period for those forms is the 6-month period prior to the compliance date of the Broker and Freight Forward Financial Responsibility rule where the estimated average burden per response is 10 minutes. The second collection period is a revision for the 2.5 years following the January 16, 2026, rule compliance date where the estimated average burden per response is 12 minutes. The annual burden hours for the revised forms equal 2,249. The annual burden hours for the remaining forms are unchanged at 47,473.

Background

The Secretary of Transportation (Secretary) is authorized to register for-hire motor carriers of property and passengers under the provisions of 49 U.S.C. 13902, surface freight forwarders under the provisions of 49 U.S.C. 13903, and property brokers under the provisions of 49 U.S.C. 13904. These persons may conduct transportation services only if they are registered pursuant to 49 U.S.C. 13901. The Secretary has delegated authority pertaining to these registration requirements to the FMCSA (49 CFR 1.87) and the regulations implementing these requirements may be found at 49 CFR part 387. The registration remains valid only as long as these transportation entities maintain, on file with FMCSA, evidence of the required levels of financial responsibility pursuant to 49 U.S.C. 13906. FMCSA regulations governing the financial responsibility requirements for these entities are found at 49 CFR part 387. The information collected from these forms are summarized and displayed in the Licensing and Information system.

Forms for Endorsements, Certificates of Insurance and Other Evidence of Bodily Injury and Property Damage Liability and Cargo Liability Financial Responsibility

Forms BMC-91 and BMC-91X, titled “Motor Carrier Automobile Bodily Injury and Property Damage Liability Certificate of Insurance,” and Form BMC-82, titled “Motor Carrier Bodily Injury Liability and Property Damage Liability Surety Bond Under 49 U.S.C. 13906,” provide evidence of the required coverage for BI and PD liability. A Form BMC-91X filing is required when a carrier's insurance is provided by multiple companies instead of just one. Form BMC-34, titled “Household Goods Motor Carrier Cargo Liability Certificate of Insurance,” and Form BMC-83, titled “Household Goods Motor Carrier Cargo Liability Surety Bond Under 49 U.S.C. 13906,” establish a carrier's compliance with the Agency's cargo liability requirements. Only household goods motor carriers are required to file evidence of cargo insurance with FMCSA (§ 387.303(c)). Form BMC-90, titled “Endorsement for Motor Carrier Policies of Insurance for Automobile Bodily Injury and Property Damage Liability Under Section 13906, Title 49 of the United States Code,” and Form BMC-32, titled “Endorsement for Motor Common Carrier Policies of Insurance for Cargo Liability Under 49 U.S.C. 13906,” are executed by the insurance company, attached to BI and PD or cargo liability insurance policies, respectively, and forwarded to the motor carrier or freight forwarder.

Requirement To Obtain Surety Bond or Trust Fund Agreement

Form BMC-84, titled “Broker's or Freight Forwarder's Surety Bond Under 49 U.S.C. 13906,” and Form BMC-85, titled “Broker's or Freight Forwarder's Trust Fund Agreement Under 49 U.S.C. 13906 or Notice of Cancellation of the Agreement,” are filed by brokers or freight forwarders to comply with the requirement that they must have a $75,000 surety bond or trust fund agreement in effect before FMCSA will issue property broker or freight forwarder operating authority registration. Both forms are being revised due to the implementation of the Broker and Freight Forwarder Financial Responsibility rule (88 FR 78656, Nov. 16, 2023). As originally published in 2023, the rule had two compliance dates, January 16, 2025, and January 16, 2026. In anticipation of the January 16, 2025, compliance date, a 60-day Federal Register notice was published on August 1, 2024 (89 FR 62842) to revise the current information collection. However, FMCSA subsequently extended the compliance date for all requirements to January 16, 2026, creating a single compliance date for all provisions of the rule. FMCSA issued a second 60-day notice on January 6, 2025 (90 FR 720) to reflect the extended compliance date (see discussion below). The implementation of the Broker and Freight Forwarder Financial Responsibility rule 6 months after the forms are set to expire necessitates the use of two versions of forms BMC-36, BMC-84, and BMC-85. The first version of the forms will apply to the 6 months prior to the implementation of the rule on January 16, 2026. The second version will apply to the 2.5 years following the implementation of the Broker and Freight Forwarder Financial Responsibility rule after January 16, 2026.

Cancellation of Prior Filings

Form BMC-35, titled “Notice of Cancellation Motor Carrier Insurance under 49 U.S.C. 13906,” Form BMC-36, titled “Motor Carrier and Broker's Surety Bonds under 49 U.S.C. 13906 Notice of Cancellation,” and Form BMC-85, titled “Broker's or Freight Forwarder's Trust Fund Agreement Under 49 U.S.C. 13906 or Notice of Cancellation of the Agreement,” can be used to cancel prior filings. Forms BMC-36 and BMC-85 are being revised due to the implementation of the Broker and Freight Forwarder Financial Responsibility rule's extended compliance date of January 16, 2026.

Self-Insurance

Motor carriers can also apply to FMCSA to self-insure BI and PD and/or cargo liability in lieu of filing certificates of insurance with the FMCSA, as long as the carrier maintains a satisfactory safety rating (see § 387.309.) Form BMC-40 is the application used by carriers to apply for self-insurance authority.

On January 6, 2025, FMCSA published a 60-day notice in the Federal Register (90-FR 720) with a 60-day public comment period to announce its intention to submit this ICR to OMB for the proposed revision. FMCSA received two comments in response to the published notice. One of the comments was not related to this ICR and was removed from the docket because it contained possible personally identifiable information.

The second commenter opposed the Broker and Freight Forwarder Responsibility rule, stating that the $75,000 financial responsibility requirement imposes a financial burden on smaller brokers and freight forwarders. Additionally, the comment implied that the rule would impose 49,722 burden hours on the participants.

In response, FMCSA notes that the minimum amount of financial responsibility is set by statute and the Agency has no discretion to change it (see 49 U.S.C. 13906(b)(3)).

The commenter's calculation of burden hours is inaccurate, as it represents the annual burden of hours for all 11 forms included in this ICR, not just the three forms updated here.

The commenter did not address whether the proposed collection is necessary for the accuracy of the estimated burden; nor the ways the burden could be minimized without reducing the quality of the collected information.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.

Kenneth Riddle,
Acting Associate Administrator, Office of Research and Registration.

[FR Doc. 2025-07392 Filed 4-29-25; 8:45 am]

BILLING CODE 4910-EX-P